DEPARTMENT OF HEALTH AND HUMAN SERVICES

Centers for Disease Control and Prevention

Meeting of the Advisory Council for the Elimination of Tuberculosis

AGENCY: Centers for Disease Control and Prevention (CDC), Department of Health and Human Services (HHS).

ACTION: Notice of meeting.

SUMMARY: In accordance with the Federal Advisory Committee Act, the Centers for Disease Control and Prevention (CDC) announces the following meeting of the Advisory Council for the Elimination of Tuberculosis (ACET). This meeting is open to the public, limited only by the number of audio and web conference lines (1,000 lines are available). Time will be available for public comment (registration is required to provide oral comment; see the Oral Public Comment section below).

DATES: The meeting will be held on December 9-10, 2025, from 12 p.m. to 5 p.m., EST.

Written comments must be submitted by December 2, 2025. Registration to make oral comments must also be submitted by December 2, 2025.

ADDRESSES: The public meeting will be held virtually through Microsoft Teams. Advanced registration is required to attend. Please register for each day of this meeting.

For registration on December 9, 2025: https://events.gcc.teams.microsoft.com/event/bb9251cf-001e-4c99-93dd-8c04f4ac6313@9ce70869-60db-44fd-abe8-d2767077fc8f.

For registration on December 10, 2025: https://events.gcc.teams.microsoft.com/event/1011f44e-bf34-4095-a71a-db943d2599ef@9ce70869-60db-44fd-abe8-d2767077fc8f.

Registration for virtual attendance will remain open through the meeting. Prior to the meeting, each individual registrant will receive a registration confirmation along with an access link to the virtual meeting location. Written public comments and requests to make oral comments should be sent to nchhstppolicy@cdc.gov.

FOR FURTHER INFORMATION CONTACT: ACET Committee Management, Office of Policy, Planning, and Partnerships, National Center for HIV, Viral Hepatitis, STD, and TB Prevention, Centers for Disease Control and Prevention. Email: nchhstppolicy@cdc.gov.

SUPPLEMENTARY INFORMATION:

Purpose: The Advisory Council for the Elimination of Tuberculosis is charged with providing advice and recommendations regarding the elimination of tuberculosis (TB) to the Secretary of Health and Human Services, the Assistant Secretary for Health, and the Director, Centers for Disease Control and Prevention (CDC). Specifically, the Council makes recommendations regarding policies, strategies, objectives, and priorities; addresses the development and application of new technologies; provides guidance and review on CDC's Tuberculosis Prevention Research portfolio and program priorities; and reviews the extent to which progress has been made toward eliminating TB.

Matters to be Considered: The agenda will include discussions on: (1) CDC's National Center for HIV, Viral Hepatitis, STD, and TB Prevention Update; (2) CDC's Division of Tuberculosis Elimination Update; (3) Tuberculosis Trials Consortium Update; (4) Reported Tuberculosis in the United States, 2024 (5) Patient Centered Experience and Care; and the (6) Biennial Letter Workgroup Update. Agenda items are subject to change as priorities dictate.

Public Participation

Written Public Comment: Members of the public are welcome to submit written comments in advance of the meeting. Written comments must be submitted by emailing nchhstppolicy@cdc.gov with subject line “ACET December 2025 Written Public Comment Registration” by December 2, 2025.

Oral Public Comment: Individuals who would like to make an oral comment during the public comment period must register by emailing nchhstppolicy@cdc.gov with subject line “ACET December 2025 Oral Public Comment Registration” by December 2, 2025. The public comment period is on December 10, 2025, at 2 p.m., EST. Comments are limited to no more than 5 minutes each. If the number of persons requesting to speak is greater than can be reasonably accommodated during the scheduled time, CDC will conduct a lottery to determine the speakers for the scheduled public comment session. CDC staff will notify individuals regarding their request to speak by email by December 5, 2025 at 5 p.m. ET.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2025-19020 Filed 9-29-25; 8:45 am]

BILLING CODE 4163-18-P